NUCLEAR REGULATORY COMMISSION

[Docket Nos. 50-325 AND 50-324]

Carolina Power & Light Company, Brunswick Steam Electric Plant, Units 1 and 2; Notice of Withdrawal of Applications for Amendments to Facility Operating Licenses

The U.S. Nuclear Regulatory Commission (the Commission) has granted the request of Carolina Power & Light Company (the licensee) to withdraw its November 12, 2002, application, as supplemented on March 5, 2004, for proposed amendments to Facility Operating License No. DPR-71 and Facility Operating License No. DPR-62 for Brunswick Steam Electric Plant, Units 1 and 2, respectively, located in Brunswick County, North Carolina.

The proposed amendments would have revised the Technical Specifications, as necessary, to support an expansion of the core flow operating range (i.e., Maximum Extended Load Line Limit Analysis Plus (MELLLA+)). As part of the MELLLA+ implementation, Carolina Power & Light Company would implement the Detect and Suppress Solution-Confirmation Density (DSS-CD) approach to automatically detect and suppress neutronic/thermal-hydraulic instabilities.

The Commission had previously issued a Notice of Consideration of Issuance of Amendment published in the Federal Register on February 18, 2003 (68 FR 7813), and renoticed on April 27, 2004 (69 FR 22880). However, by letter dated August 25, 2005, the licensee withdrew the proposed change.

For further details with respect to this action, see the application for amendments dated November 12, 2002, as supplemented March 5, 2004, and the licensee's letter dated August 25, 2005, which withdrew the application for license amendments. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 8th day of September 2005.
For the Nuclear Regulatory Commission.
Brenda L. Mozafari,
Senior Project Manager, Section 2, Project Directorate II, Division of Licensing Project Management, Office of Nuclear Reactor Regulation.

[FR Doc. E5-5022 Filed 9-14-05; 8:45 am]

BILLING CODE 7590-01-P